NUCLEAR REGULATORY COMMISSION

Advisory Committee on Nuclear Waste; Notice of Meeting

The Advisory Committee on Nuclear Waste (ACNW) will hold its 161st meeting on July 19-21, 2005, Room T-2B3, Two White Flint North, 11545 Rockville Pike, Rockville, Maryland. The date of this meeting was previously published in the Federal Register on Wednesday, December 8, 2004 (69 FR 71084).

The schedule for this meeting is as follows:

Tuesday, July 19, 2005

10:15 a.m.-10:30 a.m.: Opening Statement (Open)—The ACNW Chairman will make opening remarks regarding the conduct of today's sessions.

10:30 a.m.-12 Noon: Preparation of ACNW Reports (Open)—The Committee will discuss potential letter reports on Stakeholder Views on Recommended Standards and Regulations for Yucca Mountain, April 2005 CNWRA Program Review and ACNW Decommissioning Working Group Meeting. Other potential letter reports may be discussed.

1:30 p.m.-3:30 p.m.: Development of Risk-Informed Regulations Within the NRC and Its Application to the Nonreactor Arena (Open)—The Committee will hear a briefing by the ACNW senior management and staff regarding the evolution of risk-informed regulations, and the difference between reactor and nonreactor applications.

3:30 p.m.-4 p.m.: ACNW 's April 2005 Visit to Japan Follow-Up (Open)—The Committee will hear a report from those Committee members who visited the Radioactive Waste Management Facilities in Japan.

4:15 p.m.-5:15 p.m.: Occupational Safety and Health Administration's (OSHA) Request for Additional Information on Ionizing Radiation (Open)—The Committee will hear the staff's views on and provide comments on OSHA's May 2005 request for information regarding exposure of workers to ionizing radiation, its uses in different industries, health effects, and existing workplace control programs.

5:15 p.m.-5:45 p.m.: ACNW Low-Level Radioactive Waste Management Paper: Draft No. 2 (Open)—The Committee will discuss and comment on draft No. 2 of the white paper on low-level radioactive waste management issues.

Wednesday, July 20, 2005

9:30 a.m.-9:45 a.m.: Opening Remarks by the ACNW Chairman (Open)—The ACNW Chairman will begin the meeting with brief opening remarks, outline the topics to be discussed, and indicate items of interest.

9:45 a.m.-10:30 a.m.: Staff Briefing on International Atomic Energy Agency (IAEA) Requirements Document DS-154: Design and Operation of Facilities for Geological Disposal of Radioactive Waste (Open)—The Committee will hear a briefing by and hold discussions with representatives of the Office of Nuclear Material Safety and Safeguards (NMSS) regarding the IAEA document that is intended to provide guidance to policymakers, regulators, and operators concerned with the development and regulatory control of geologic disposal facilities for the management of long-lived radioactive waste.

10:45 a.m.-11:45 a.m.: Review of Generic Waste-Related Research in the Office of Nuclear Regulatory Research (RES) (Open)—The Committee will hear a briefing by and hold discussions with representatives of the Office of Nuclear Regulatory Research (RES) regarding the waste-related research programs sponsored by that office.

1 p.m.-2 p.m.: RES White Paper on Collective Dose (Open)—The Committee will hear a briefing by and hold discussions with representatives of the RES staff regarding development of a white paper that describes the use of collective dose in making regulatory decisions.

2 p.m.-4 p.m.: Continuation of Discussions of Possible Letters/Reports (Open)—The Committee will discuss prepared letters and determine whether letters would be written on topics discussed during the meeting.

4:30 p.m.-5:30 p.m.: Miscellaneous (Open)—The Committee will discuss matters related to the conduct of ACNW activities, and specific issues that were not completed during previous meetings, as time and availability of information permit. Discussions may include future Committee meetings.

Thursday, July 21, 2005

8:30 a.m.-12 Noon: Continuation of Discussion of Possible Letters/Reports (Open)—The Committee will discuss prepared letters and determine whether letters would be written on topics discussed during the meeting.

Procedures for the conduct of and participation in ACNW meetings were published in the Federal Register on October 18, 2004 (69 FR 61416). In accordance with these procedures, oral or written statements may be presented by members of the public. Electronic recordings will be permitted only during those portions of the meeting that are open to the public. Persons desiring to make oral statements should notify Ms. Sharon A. Steele, (Telephone (301) 415-6805), between 7:30 a.m. and 4 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Ms. Steele as to their particular needs.

Further information regarding topics to be discussed, whether the meeting has been canceled or rescheduled, the Chairman's ruling on requests for the opportunity to present oral statements and the time allotted, therefore can be obtained by contacting Ms. Steele.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301) 415-8066), between 7:30 a.m. and 3:45 p.m. e.t., at least 10 days before the meeting to ensure the availability of this service. Individuals or organizations requesting this service will be responsible for telephone line charges and for providing the equipment and facilities that they use to establish the video teleconferencing link. The availability of video teleconferencing services is not guaranteed.

Dated: July 1, 2005.
Andrew L. Bates,
Advisory Committee Management Officer.

[FR Doc. E5-3600 Filed 7-7-05; 8:45 am]

BILLING CODE 7590-01-P